DEPARTMENT OF ENERGY

Federal Energy Regulatory Commission

Combined Notice of Filings #1

October 14, 2010.

Take notice that the Commission received the following electric rate filings:

Docket Numbers: ER11-67-000.

Applicants: Stephentown Regulation Services LLC.

Description: Stephentown Regulation Services LLC submits tariff filing per 35.12: Stephentown FERC Electric, Volume No. 1 Baseline Filing to be effective 10/8/2010.

Filed Date: 10/08/2010.

Accession Number: 20101008-5139.

Comment Date: 5 p.m. Eastern Time on Friday, October 29, 2010.

Docket Numbers: ER11-68-000.

Applicants: Morgan Stanley Capital Group Inc.

Description: Morgan Stanley Capital Group Inc. submits tariff filing per 35.12: Transmission Assignment Tariff to be effective 10/11/2010.

Filed Date: 10/08/2010.

Accession Number: 20101008-5150.

Comment Date: 5 p.m. Eastern Time on Friday, October 29, 2010.

Docket Numbers: ER11-69-000.

Applicants: Columbus Southern Power Company.

Description: Columbus Southern Power Company submits concurrences to the baseline Open Access Transmission Service Tariff pursuant to Order No 714, to be effective 9/1/2010.

Filed Date: 10/12/2010.

Accession Number: 20101012-5007.

Comment Date: 5 p.m. Eastern Time on Tuesday, November 2, 2010.

Docket Numbers: ER11-70-000.

Applicants: Indiana Michigan Power Company.

Description: Indiana Michigan Power Company submits concurrences to the baseline Open Access Transmission Service Tariff pursuant to Order No 714, to be effective 9/1/2010.

Filed Date: 10/12/2010.

Accession Number: 20101012-5009.

Comment Date: 5 p.m. Eastern Time on Tuesday, November 2, 2010.

Docket Numbers: ER11-71-000.

Applicants: Kentucky Power Company.

Description: Kentucky Power Company submits tariff filing per 35.12: 20101011 OATT Concurrence—KPCo to be effective 9/1/2010.

Filed Date: 10/12/2010.

Accession Number: 20101012-5010.

Comment Date: 5 p.m. Eastern Time on Tuesday, November 2, 2010.

Docket Numbers: ER11-72-000.

Applicants: Kingsport Power Company.

Description: Kingsport Power Company submits tariff filing per 35.12: 20101011 OATT Concurrence—KgPCo to be effective 9/1/2010.

Filed Date: 10/12/2010.

Accession Number: 20101012-5011.

Comment Date: 5 p.m. Eastern Time on Tuesday, November 2, 2010.

Docket Numbers: ER11-73-000.

Applicants: Ohio Power Company.

Description: Ohio Power Company submits tariff filing per 35.12: 20101011 OATT Concurrence—OPCo to be effective 9/1/2010.

Filed Date: 10/12/2010.

Accession Number: 20101012-5012.

Comment Date: 5 p.m. Eastern Time on Tuesday, November 2, 2010.

Docket Numbers: ER11-74-000.

Applicants: Public Service Company of Oklahoma.

Description: Public Service Company of Oklahoma submits tariff filing per 35.12: 20101011 OATT Concurrence—PSO to be effective 9/1/2010.

Filed Date: 10/12/2010.

Accession Number: 20101012-5013.

Comment Date: 5 p.m. Eastern Time on Tuesday, November 2, 2010.

Docket Numbers: ER11-75-000.

Applicants: Southwestern Electric Power Company.

Description: Southwestern Electric Power Company submits tariff filing per 35.12: 20101011 OATT Concurrence—SWEPCO to be effective 9/1/2010.

Filed Date: 10/12/2010.

Accession Number: 20101012-5014.

Comment Date: 5 p.m. Eastern Time on Tuesday, November 2, 2010.

Docket Numbers: ER11-76-000.

Applicants: Wheeling Power Company.

Description: Wheeling Power Company submits tariff filing per 35.12: 20101011 OATT Concurrence—WPCo to be effective 9/1/2010.

Filed Date: 10/12/2010.

Accession Number: 20101012-5015.

Comment Date: 5 p.m. Eastern Time on Tuesday, November 2, 2010.

Docket Numbers: ER11-77-000.

Applicants: AEP Texas Central Company.

Description: AEP Texas Central Company submits tariff filing per 35.12: 20101011 OATT Concurrence—TCC to be effective 9/1/2010.

Filed Date: 10/12/2010.

Accession Number: 20101012-5016.

Comment Date: 5 p.m. Eastern Time on Tuesday, November 2, 2010.

Docket Numbers: ER11-78-000.

Applicants: AEP Texas North Company.

Description: AEP Texas North Company submits tariff filing per 35.12: 20101011 OATT Concurrence—AEP TNC to be effective 9/1/2010.

Filed Date: 10/12/2010.

Accession Number: 20101012-5017.

Comment Date: 5 p.m. Eastern Time on Tuesday, November 2, 2010.

Docket Numbers: ER11-80-000.

Applicants: ISO New England Inc.

Description: ISO New England Inc. submits tariff filing per 35.13(a)(2)(iii): ISO-NE QPCRD Revisions to be effective 1/1/2011.

Filed Date: 10/12/2010.

Accession Number: 20101012-5112.

Comment Date: 5 p.m. Eastern Time on Tuesday, November 2, 2010.

Docket Numbers: ER11-82-000.

Applicants: RRI Energy Services, Inc.

Description: RRI Energy Services, Inc. submits their Compliance Filing, to be effective 9/27/2010.

Filed Date: 10/12/2010.

Accession Number: 20101012-5169.

Comment Date: 5 p.m. Eastern Time on Tuesday, November 2, 2010.

Docket Numbers: ER11-83-000.

Applicants: Carolina Power & Light Company.

Description: Carolina Power & Light Company submits tariff filing per 35.12: Rate Schedule No. 173 of Carolina Power and Light Co. to be effective 12/11/2010.

Filed Date: 10/12/2010.

Accession Number: 20101012-5172.

Comment Date: 5 p.m. Eastern Time on Tuesday, November 2, 2010.

Docket Numbers: ER11-84-000.

Applicants: Carolina Power & Light Company.

Description: Carolina Power & Light Company submits tariff filing per 35.13(a)(2)(iii): Rate Schedule No. 189 of Carolina Power and Light Co. to be effective 12/11/2010.

Filed Date: 10/12/2010.

Accession Number: 20101012-5173.

Comment Date: 5 p.m. Eastern Time on Tuesday, November 2, 2010.

Docket Numbers: ER11-85-000.

Applicants: Societe Generale Energie (USA) Corp.

Description: Societe Generale Energie (USA) Corp. submits tariff filing per 35.12: SGE USA Baseline Tariff Filing to be effective 10/12/2010.

Filed Date: 10/12/2010.

Accession Number: 20101012-5178.

Comment Date: 5 p.m. Eastern Time on Tuesday, November 2, 2010.

Docket Numbers: ER11-86-000.

Applicants: RRI Energy Florida, LLC.

Description: RRI Energy Florida, LLC submits tariff filing per 35: Compliance Filing to be effective 9/27/2010.

Filed Date: 10/12/2010.

Accession Number: 20101012-5180.

Comment Date: 5 p.m. Eastern Time on Tuesday, November 2, 2010.

Docket Numbers: ER11-87-000.

Applicants: PJM Interconnection, L.L.C.

Description: PJM Interconnection, L.L.C. submits tariff Compliance Filing, to be effective 9/17/2010.

Filed Date: 10/12/2010.

Accession Number: 20101012-5202.

Comment Date: 5 p.m. Eastern Time on Tuesday, November 2, 2010.

Docket Numbers: ER11-88-000.

Applicants: Flat Rock Windpower LLC.

Description: Flat Rock Windpower LLC submits tariff filing per 35.15: Cancellation of Duplicate Baseline Tariff to be effective 10/12/2010.

Filed Date: 10/12/2010.

Accession Number: 20101012-5203.

Comment Date: 5 p.m. Eastern Time on Tuesday, November 2, 2010.

Docket Numbers: ER11-89-000.

Applicants: Flat Rock Windpower II LLC.

Description: Flat Rock Windpower II LLC submits tariff filing per 35.15: Cancellation of Duplicate Baseline Tariff to be effective 10/12/2010.

Filed Date: 10/12/2010.

Accession Number: 20101012-5209.

Comment Date: 5 p.m. Eastern Time on Tuesday, November 2, 2010.

Docket Numbers: ER11-90-000.

Applicants: PJM Interconnection, L.L.C.

Description: PJM Interconnection, L.L.C. submits tariff filing per 35.13(a)(2)(iii): ISA No. 2644, T41—PJM, PSEG Fossil and PSEG Company to be effective 9/17/2010.

Filed Date: 10/12/2010.

Accession Number: 20101012-5213.

Comment Date: 5 p.m. Eastern Time on Tuesday, November 2, 2010.

Docket Numbers: ER11-92-000.

Applicants: New York Independent System Operator, Inc.

Description: New York Independent System Operator, Inc. submits tariff filing per 35.13(a)(2)(iii): 205 filing—Tarff Amendment & Request for Expedited Consideration & Waiver to be effective 10/21/2010.

Filed Date: 10/12/2010.

Accession Number: 20101012-5355.

Comment Date: 5 p.m. Eastern Time on Tuesday, November 2, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-26755 Filed 10-21-10; 8:45 am]

BILLING CODE 6717-01-P